SMALL BUSINESS ADMINISTRATION

[Disaster Declaration #20705 and #20706; VIRGINIA Disaster Number VA-20011]

Presidential Declaration Amendment of a Major Disaster for the Commonwealth of Virginia

AGENCY: U.S. Small Business Administration.

ACTION: Amendment 3.

SUMMARY: This is an amendment of the Presidential declaration of a major disaster for the Commonwealth of Virginia (FEMA-4831-DR), dated 10/01/2024.

Incident: Tropical Storm Helene.

Incident Period: 09/25/2024 and continuing.

DATES: Issued on 10/13/2024.

Physical Loan Application Deadline Date: 12/02/2024.

Economic Injury (EIDL) Loan Application Deadline Date: 07/01/2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the Commonwealth of Virginia, dated 10/01/2024, is hereby amended to include the following areas as adversely affected by the disaster:

Primary County (Physical Damage and Economic Injury Loans): Scott.

Contiguous Counties (Economic Injury Loans Only):

Virginia: Halifax

Tennessee: Hancock, Hawkins.

All other information in the original declaration remains unchanged.

(Catalog of Federal Domestic Assistance Number 59008)

Rafaela Monchek,
Deputy Associate Administrator, Office of Disaster Recovery & Resilience.

[FR Doc. 2024-24168 Filed 10-17-24; 8:45 am]

BILLING CODE 8026-09-P